DEPARTMENT OF ENERGY

Federal Energy Regulatory Commission

[Docket No. RP96-359-011]

Transcontinental Gas Pipe Line Corporation; Notice of Negotiated Rate

October 30, 2002.

Take notice that on October 24, 2002, Transcontinental Gas Pipe Line Corporation (Transco) tendered for filing with the Commission a copy of an amendment to an executed service agreement between Transco and Williams Energy Marketing & Trading Company that contains a negotiated rate under Rate Schedule FT applicable to the Leidy East Expansion Project. Transco states that the purpose of the instant filing is to comply with requirements specified in the Commission's October 25, 2001, “Order Issuing Certificate,” in Docket No. CP01-389 which required Transco, among other things, to file, not less than 30 days prior to the commencement of service of the Leidy East Expansion Project, the negotiated rate agreements or tariff sheets reflecting the essential elements of its negotiated rate agreements. The proposed effective date of the amendment submitted herein is November 1, 2002, the anticipated in-service date of the Leidy East project.

Transco states that copies of the filing are being mailed to its affected customers and interested State Commissions. Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport @ferc.gov or toll-free at (866) 208-3676, or for TTY, contact (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-28182 Filed 11-4-02; 8:45 am]

BILLING CODE 6717-01-P